DEPARTMENT OF LABOR

Bureau of International Labor Affairs

Notice of Final Determination Regarding Forced/Indentured Child Labor Pursuant to Executive Order 13126

AGENCY: Office of the Secretary, Labor.

ACTION: Notice of final determination regarding forced child labor in the firecracker industry in China.

SUMMARY: This notice sets forth the final determination regarding a May 2001 submission, pursuant to Executive Order 13126 (“Prohibition of Acquisition of Products Produced by Forced or Indentured Child Labor”) and alleging forced child labor in the firecracker industry in China. The Department of Labor, in consultation and cooperation with the Departments of Treasury and State, has determined that firecrackers from China should not be added to final list of products prohibited from acquisition under Executive Order 13126, based on the lack of recent, credible and appropriately corroborated information indicating that this product is being manufactured with forced or indentured child labor. The review of this country/product was conducted pursuant to Executive Order 13126 and the Department's “Procedural Guidelines for Maintenance of the List of Products Requiring Federal Contractor Certification as to Forced or Indentured Child Labor.”

SUPPLEMENTARY INFORMATION:

I. Background

Executive Order No. 13126, which was published in the Federal Register on June 16, 1999 (64 FR 32383), declared that it was “the policy of the United States Government * * * that the executive agencies shall take appropriate actions to enforce the laws prohibiting the manufacture or importation of goods, wares articles, and merchandise mined, produced or manufactured wholly or in part by forced or indentured child labor”. Pursuant to the Executive Order, and following public notice and comment, the Department of Labor published in the January 18, 2001 Federal Register, a final list of products, identified by their country of origin, that the Department, in consultation and cooperation with the Departments of State and Treasury, has a reasonable basis to believe might have been mined, produced or manufactured with forced or indentured child labor. In addition to this list, the Department of Labor also published on January 18, 2001, a notice of procedural guidelines for maintaining, reviewing, and, as appropriate, revising the list of products required by Executive Order 13126. (66 FR 5351). The list of products can be accessed on the Internet at http://www.dol.gov/ilab or can be obtained from: International Child Labor Program (ICLP), Bureau of International Labor Affairs, Room S-5307, U.S. Department of Labor, 200 Constitution Avenue, NW., Washington, DC 20210; telephone: (202) 693-4843; fax (202) 693-4830. A copy of the Procedural Guidelines is also available from this office.

Pursuant to Section 3 of the Executive Order, the Federal Acquisition Regulatory Councils published a final rule in the Federal Register on January 18, 2001, providing that federal contractors who supply products that appear on the list issued by the Department of Labor must certify to the contracting officer that the contractor, or, in the case of an incorporated contractor, a responsible official of the contractor, has made a good faith effort to determine whether forced or indentured child labor was used to mine, produce or manufacture any product furnished under the contract and that, on the basis of those efforts, the contractor is unaware of any such use of child labor. (48 CFR subpart 22.15). The regulation also imposes other requirements with respect to contracts for products on the list of products.

II. China/Firecrackers Executive Order Submission

On June 29, 2001, the Department of Labor accepted for review a submission under Executive Order 13126 regarding the use of forced child labor in the firecracker industry in China. The submission, which was provided by State Department Watch, consisted of a newspaper article with information describing a March 2001 incident in which children in Jiangxi Province, China were allegedly killed while being forced to manufacture firecrackers at their school.

In accordance with the “Procedural Guidelines for Maintenance of the List,” the Department initiated a review into the manufacturing of this product using forced or indentured child labor in China. In conducting the review, the Department focused on available information concerning the use of forced or indentured child labor from a variety of sources, including the Departments of State and Treasury, nongovernmental organizations, and international organizations. In addition, as part of its review effort, the Department released a Federal Register notice on August 21, 2002, requesting information from the public on the use of forced child labor in the manufacturing of firecrackers in China. The Department of Labor received no responses to the August 2002 notice. Through this review process, insufficient recent and credible evidence was acquired to corroborate the news article and to establish a reasonable basis to believe that this product is being manufactured with forced or indentured child labor in China.

III. Final Determination

In general, the Department of Labor considers and weighs several factors in making determinations under the Executive Order: the nature of the information describing the use of forced or indentured child labor; the source of the information; the date of the information; the extent of corroboration of the information by appropriate resources; and whether the information involved more than an isolated incident. In addition, the Department of Labor also takes into consideration whether recent, credible efforts are being made to address forced or indentured child labor in a particular country or industry.

Based on the lack of recent, credible and appropriately corroborated information found through the review process to establish a reasonable basis to believe that this product is manufactured with forced or indentured child labor, and as the submitted news article is insufficient by itself to establish such a basis, the Department of Labor, after consulting with the Departments of Treasury and State, has determined that firecrackers from China should not be added to the Executive Order 13126 list of products.

Signed at Washington, DC this 30th day of April 2003.
Martha E. Newton,
Acting Deputy Under Secretary for International Labor Affairs.

[FR Doc. 03-11677 Filed 5-9-03; 8:45 am]

BILLING CODE 4510-28-M